RAILROAD RETIREMENT BOARD

Privacy Act of 1974; Systems of Records

AGENCY: Railroad Retirement Board.

ACTION: Notice of proposed changes to systems of records.

SUMMARY: The purposes of this document are: (1) To give notice of 10 non-substantial revisions of existing routine uses in 4 systems of records; (2) to delete 2 systems of records; (3) to add a purpose statement to all remaining systems of records; and (4) to give notice of several non-substantial changes in other categories for several systems of records.

DATES: The changes are effective as of the date of this publication.

FOR FURTHER INFORMATION CONTACT: LeRoy Blommaert, Privacy Act Officer, Railroad Retirement Board, 844 N. Rush St., Chicago, IL 60611-2092, (312) 751-4548.

SUPPLEMENTARY INFORMATION:

Part I: Minor Revisions to Existing Routine Uses

The following 10 existing routine uses in the following 4 systems of records are being revised to better express what information is being disclosed and for what purposes, or to change the name of the organization to which the information can be disclosed due to the renaming of the organization, or to limit the conditions under which the disclosure can be made:

RRB-17 “d” and “f”

RRB-20 “i,” “j,” and “o”

RRB-22 “e,” “k,” and “gg”

RRB-42 “a” and “c”

These revisions do not constitute new or expanded disclosures.

Part II: Deletions of Systems of Records

The following system of records is being deleted because it no longer meets the definition of “systems of records” under the Privacy Act: RRB-2. Privacy System of Records RRB-9 is being deleted because it is being consolidated into RRB-17.

Part III: Changes in Other Categories

System name:

We changed the system name for systems RRB-3, RRB-42, and RRB-43, to better express the content of these systems.

System location:

We revised this category for system RRB-3 to reflect the current location. We revised this category for system RRB-43 to reflect that it is located in the Office of the Inspector General.

Categories of individuals covered by the system:

We revised this category for systems RRB-16, RRB-17, and RRB-42 to better or more comprehensively describe the individuals covered by the system. None of these revisions reflect new groups of individuals covered by the system.

Categories of records in the system:

We revised this category for systems RRB-3, RRB-5, RRB-16, RRB-42, and RRB-43 to correctly or more comprehensively describe the categories of records in these systems. None of the revisions reflect any new categories of records added to the systems.

Authority for maintenance of the system:

We revised this category for systems RRB-17, RRB-42, and RRB-43 to more accurately express the legal authority for the systems.

Storage:

We revised this category for systems RRB-16 and RRB-43 to reflect current practice or better express the media used.

Retrievability:

We revised this category for systems RRB-17 and RRB-43 to reflect current methods of retrieval.

Safeguards:

We revised this category for systems RRB-16, RRB-17, RRB-21, RRB-43, RRB-44, and RRB-46 to reflect current practice or better express safeguards procedures.

Retention and disposal:

We revised this category for systems RRB-1, RRB-3, RRB-10, RRB-16, RRB-17, RRB-20, RRB-21, RRB-22, RRB-33, RRB-42, RRB-43, RRB-44, and RRB-46 to bring it into conformity with actual practice and approved records disposal schedules.

Record source categories:

We revised this category in systems of records RRB-3, RRB-17, RRB-21, and RRB-43 to better or more comprehensively describe the record sources for information in the system.

Part IV: Existing systems covered by this document (as currently named)

RRB-1 Social Security Benefit Vouchering System

RRB-2 Medical Examiner's Index

RRB-3 Medicare Part B (Supplementary Medical Insurance Payment System—contracted to United Health Care Insurance Company)

RRB-4 Microfiche of Estimated Annuity, Total Compensation and Residual Amount File

RRB-5 Master File of Railroad Employees' Creditable Compensation

RRB-6 Unemployment Insurance Record File

RRB-7 Applications for Unemployment Benefits and Placement Service Under the Railroad Unemployment Insurance Act

RRB-8 Railroad Retirement Tax Reconciliation System (Employee Representatives)

RRB-9 Protest and Appeals under the Railroad Unemployment Insurance Act

RRB-10 Legal Opinion Files

RRB-11 Files on Concluded Litigation

RRB-12 Railroad Employees' Registration File

RRB-16 Social Security Administration Master Earnings File

RRB-17 Appeal Decisions from Initial Denials for Benefits under the Provisions of the Railroad Retirement Act

RRB-18 Travel and Miscellaneous Voucher Examining System

RRB-19 Payroll Record System

RRB-20 Health Insurance and Supplementary Medical Insurance Enrollment and Premium Payment System (Medicare)

RRB-21 Railroad Unemployment and Sickness Insurance Benefit System

RRB-22 Railroad Retirement Survivor and Pensioner Benefit System

RRB-26 Payment, Rate and Entitlement File

RRB-27 Railroad Retirement Board—Social Security Administration Financial Interchange System

RRB-29 Railroad Employees' Cumulative Gross Earnings Master File

RRB-33 Federal Employee Incentive Awards System

RRB-34 Employee Personnel Management Files

RRB-36 Complaint, Grievance, Disciplinary and Adverse Action Files

RRB-37 Medical Records on Railroad Retirement Board Employees

RRB-42 Uncollectible Benefit Overpayment Accounts

RRB-43 Investigation Files

RRB-44 Employee Test Score File

RRB-45 Employee Tuition Reimbursement File

RRB-46 Personnel Security Files

RRB-48 Employee Identification Card Files (Building Passes)

RRB-49 Telephone Call Detail Records

Dated: October 18, 2000.
By authority of the Board.
Beatrice Ezerski,
Secretary to the Board.

RRB-1

System Name:

Social Security Benefit Vouchering System—RRB.

* * * * *

1. The following sections in RRB-1 are revised, and a purpose section added, to read as follows:

Purpose(s):

Records in the Social Security Benefit Vouchering System are maintained to administer Title II of the Social Security Act with respect to payment of benefits to individuals with 10 or more years of railroad service and their families.

* * * * *

Retention and disposal:

Paper: Individual claim folders with records of all actions pertaining to the payment of claims are transferred to the Federal Records Center, Chicago, Illinois 5 years after the date of the last payment or denial activity if all benefits have been paid, no future eligibility is apparent and no erroneous payments are outstanding. The claim folder is destroyed 25 years after the date it is received in the center. Accounts receivable listings and checkwriting operations daily activity listings are transferred to the Federal Records Center 1 year after date of issue and are destroyed 6 years and 3 months after receipt at the center. Other paper listings are destroyed 1 year after date of issue. Change of address source documents are destroyed after 1 year. Magnetic tape: Tapes are updated at least monthly. For disaster recovery purposes, certain tapes are stored for 12-18 month periods. Microforms: Originals are kept for 3 years, transferred to the Federal Records Center and destroyed when 8 years old. One duplicate copy is kept 2 years and destroyed by shredding. All other duplicate copies are kept 1 year and destroyed by shredding.

* * * * *

RRB-2

System Name:

Medical Examiner's Index.

2. System RRB-2 is removed in its entirety

* * * * *

RRB-3

System name:

3. The following sections in RRB-3 are revised, and a purpose section is added to read as follows:

Medicare, Part B (Supplementary Medical Insurance Payment System—Contracted to Palmetto Government Benefit Administrators

System location:

Palmetto Government Benefit Administrators, 17 Technology Circle, Columbia, South Carolina 29203-9591; Regional Office: PO Box 10066, Augusta, Georgia 30999

* * * * *

Categories of records in the system:

Name, health insurance claim number, address, date of birth, telephone number, description of illness and treatment pertaining to claim, indication of other health insurance or medial assistance pertinent to claim, date(s) and place(s) of physician service, description of medical procedures, services or supplies furnished, nature of illness(es), medical charges, name, address and telephone of physician, identifying number of provider, designation of payee, Part B entitlement date, Part B deductible status and amount of payment to beneficiary or payee.

* * * * *

Purpose(s):

Records in this system are maintained to administer the supplementary medical insurance (Part B) portion of Medicare under Title XVIII of the Social Security Act for qualified railroad retirement beneficiaries.

* * * * *

Retention and disposal:

Records are maintained by the insurance company office for 27 months. At the end of 27 months the material is sent to storage areas maintained by the insurance company. Records are retained and stored in accordance with guidelines issued by HCFA.

* * * * *

Record source categories:

Claimant, his/her authorized representative or his/her survivors, the Social Security Administration, the Health Care Financing Administration and its contractors, physicians, and hospitals.

* * * * *

RRB-4

System Name:

Microfiche of Estimated Annuity, Total Compensation and Residual Amount File.

* * * * *

4. A purpose section is added to RRB-4 to read as follows:

Purpose(s):

The primary purpose of the system is to provide field offices with the capability of furnishing annuity estimates to prospective beneficiaries. The system is also used by field offices to provide temporary annuity rates that the Division of Operations may issue to applicants for employee and spouse benefits.

* * * * *

RRB-5

System name:

Master File of Railroad Employee's Creditable Compensation.

* * * * *

5. The following sections in RRB-5 are revised, and a purpose section is added, to read as follows:

Categories of records in the system:

Individual name, social security number, claim number, annuity beginning date, date of birth, sex, race, last employer identification number, amount of daily payrate if under $100, ICC occupation code, creditable service and compensation from 1937 to date, home address, and date of death.

* * * * *

Purpose(s):

The purpose of this system is to store railroad earnings of railroad employees which are used to determine entitlement to and amount of benefits payable under the Railroad Retirement Act, the Railroad Unemployment Insurance Act and the Social Security Act, if applicable. The records are updated daily based on earnings reports received from railroad employers and the Social Security Administration and are stored in the Employment Data Maintenance Application database.

* * * * *

RRB-6

System name:

Unemployment Insurance Record File.

* * * * *

6. A purpose section is added to RRB-6 to read as follows:

Purpose(s):

This system of records is used for filing general information about applicants for RUIA benefits. If an applicant files for UI benefits, some of the information in this file will be also placed in the claimants UI file.

* * * * *

RRB-7

System name:

Applications for Unemployment Benefits and Placement Service Under the Railroad Unemployment Insurance Act.

* * * * *

7. A purpose section is added to RRB-7 to read as follows:

Purpose(s):

The purpose of this system of records is to be used as an individual's UI file. The records contained in the file are pertinent to the individual's claim for unemployment benefits under the RUIA.

* * * * *

RRB-8

System name:

Railroad Retirement Tax Reconciliation System (Employee Representatives).

* * * * *

8. A purpose section is added to RRB-8 to read as follows:

Purpose(s):

The purpose of this system is to ensure that the earnings of employee representatives reported to the Internal Revenue Service for tax purposes agree with earnings reported to the RRB for benefit payment purposes.

* * * * *

RRB-9

System name:

Protest and Appeals under the Railroad Unemployment Insurance Act.

9. System RRB-9 is removed in its entirety.

* * * * *

RRB-10

System name:

Legal Opinion Files.

* * * * *

10. The following sections in RRB--10 are revised, and a purpose section is added, to read as follows:

Purpose(s):

The RRB needs to collect and maintain information contained in this system of records in order to make decisions regarding the claims for benefits of individuals under various Acts administered by the RRB.

* * * * *

Retention and disposal:

Opinions of precedential interest or otherwise of lasting significance, and correspondence related to these opinions, are retained permanently. Opinions of limited significance beyond the particular case, and correspondence related to these opinions, are retained in the individual's claim folder, if any, established under the Railroad Retirement Act. When no folder exists, these opinions are destroyed by shredding 2 years after the date of the last action taken by the Bureau of Law on the matter.

* * * * *

RRB-11

System name:

Files on Concluded Litigation.

* * * * *

11. A purpose section is added to RRB-11 to read as follows:

Purpose(s);

The RRB needs to collect and maintain records of concluded litigation to which the RRB was a party.

* * * * *

RRB-12

System name:

Railroad Employees' Registration File

* * * * *

12. A purpose section is added to RRB-12 to read as follows:

Purpose(s):

The purpose of the system is to provide information on railroad employees who completed Carrier Employee Registration forms (CER-1) to apply for a Social Security number (SSN). The information on these CERA-1 forms was available only at the Railroad Retirement Board.

* * * * *

RRB-16

System name:

Social Security Administration Master Earnings File.

* * * * *

13. The following sections in RRB-16 are revised, and a purpose section is added, to read as follows:

Categories of individuals covered by the system:

Employees who have at least 108 creditable service months under the Railroad Retirement Act (RRA) or who attain eligibility for RRA benefits when military service is included as creditable railroad service.

Categories of records in the system:

Social security account number, name, date of birth, gender, social security claim status, details of earnings and periods of employment that are creditable under the Social Security Act for years after 1936.

* * * * *

Purpose(s):

The purpose of this system of records is to have Social Security Act earnings information available to RRB benefit programs for determinations related to RRA benefit entitlement and amount. The records are stored in the Employment Data Maintenance database.

* * * * *

Storage:

Mainframe computer database.

* * * * *

Safeguards:

Mainframe computer database: computer and computer storage room are restricted to authorized personnel; on-line query safeguards include a lock/unlock password system, a terminal oriented transaction matrix and an audit trail.

Retention and Disposal:

Updates are made to database weekly using files transmitted to RRB from SSA over telephone lines.

* * * * *

RRB-17

* * * * *

14. The following sections and paragraphs in RRB-17 are revised to read as follows:

System name:

Appeal Decisions from Initial Denials for Benefits under the Provisions of the Railroad Retirement Act or the Railroad Unemployment Insurance Act.

* * * * *

Categories of individuals covered by the system:

Appellants under the provisions of the Railroad Retirement Act or the Railroad Unemployment Insurance Act.

* * * * *

Authority for maintenance of the system:

Section 7(b)(6) of the Railroad Retirement Act of 1974 (45 U.S.C. 231f(b)(6); sec. 12(1) of the Railroad Unemployment Insurance Act (45 U.S.C. 362(1)).

Routine uses of the records contained in the system, including the categories of users and the purposes of such use:

d. Records may be disclosed in a court proceeding relating to any claims for benefits by the beneficiary under the Railroad Retirement Act and may be disclosed during the course of an administrative appeal to individuals who need the records to prosecute or decide the appeal or to individuals who are requested to provide information relative to an issue involved in the appeal.

* * * * *

f. Non-medical information in this system may be released to the attorney representing such individual upon receipt of a written letter or declaration stating the fact of representation, subject to the same procedures and regulatory prohibitions as the subject individual. Medical information may be released to an attorney when such records are requested for the purpose of contesting a determination either administratively or judicially.

* * * * *

Retrievability:

Claim number or social security number, Bureau of Hearings and Appeals appeal number, or Bureau of Hearings and Appeals decision number.

* * * * *

Safeguards:

Only authorized personnel have access to these records which are kept in an office that is locked at the close of business each day and remains so until start of business the next day.

Retention and disposal:

The decisions are retained for a period of 2 years and then destroyed by shredding.

* * * * *

Record Source categories:

Information furnished by the appellant or his/her authorized representative, information developed by the hearings officer relevant to the appeal, and information contained in other record systems maintained by the Railroad Retirement Board.

* * * * *

RRB-18

System name:

Travel and Miscellaneous Voucher Examining System.

* * * * *

15. A purpose section is added to RRB-18 to read as follows:

Purpose(s):

The system is used to pay the operating expenses of the agency excluding payroll. Payment is made to vendors for goods and services. Employees are reimbursed for travel expenses related to the performance of their jobs. Payments are made within Federal limits and applicable guidelines.

* * * * *

RRB-19

System name:

Payroll Record System.

* * * * *

16. A purpose section is added to RRB-19 to read as follows:

Purpose(s):

The purpose of this system is to maintain employee data related to earnings. This includes hours worked, time off, and premium pay. It is also used to calculate employee gross to net pay based on mandatory and elective deductions. Earnings data is accumulated and reported to Federal, State, and local taxing authorities. Employee benefit data is reported to the Office of Personnel Management to ensure accuracy and proper coverage.

* * * * *

RRB-20

System name:

Health Insurance and Supplementary Medical Insurance Enrollment and Premium Payment System (Medicare)

* * * * *

17. The following sections and paragraph in RRB-20 are revised, and a purpose section is added, to read as follows:

Purpose(s):

Records in this system are maintained to administer Title XVIII of the Social Security Act for qualified railroad retirement beneficiaries.

* * * * *

Routine uses of records maintained in the system, including categories of users and the purposes of such uses:

i. Records may be released to contractors to fulfill contract requirements pertaining to specific activities related to the Railroad Retirement Act and Social Security Act, as amended.

j. Beneficiary last address information may be disclosed to the Department of Health and Human Services in conjunction with the Parent Locator Service.

* * * * *

o. If a request for information pertaining to an individual is made by an official of a labor organization of which the individual is a member and the request is made on behalf of the individual, information from the record of the individual concerning his or her entitlement to Medicare may be disclosed to the labor organization official.

* * * * *

Retention and disposal:

Paper: Computer printouts, including daily and monthly statistics, premium payment listings, state-buy in listings and voucher listings are kept for 2 years, transferred to the Federal Records Center, and destroyed when 5 years old. Other copies of computer printouts are maintained for 1 year, then shredded. Applications material in individual claim folders with records of all actions pertaining to the payment or denial of claims are transferred to the Federal Record Center, Chicago, Illinois 5 years after the date of last payment or denial activity if all benefits have been paid, no future eligibility is apparent and no erroneous payments are outstanding. The claim folder is destroyed 25 years after the date it is received in the center.

Magnetic tape: Updated weekly. Obsolete tape is written over.

Microfilm: Originals are kept for 3 years, transferred to the Federal Records Center and destroyed 3 years and 3 months after receipt at the center. One copy is kept 3 years and then destroyed when 6 months old or no longer needed for administrative use, whichever is sooner.

* * * * *

RRB-21

System name:

Railroad Unemployment and Sickness Insurance Benefit System

* * * * *

18. The following sections and paragraphs in RRB-21 are revised, and a purpose section is added, to read as follows:

Purpose(s):

The purpose of this system of records is to carry out the function of collecting and storing information in order to administer the benefit program under the Railroad Unemployment Insurance Act.

* * * * *

Safeguards:

Paper and microforms: Maintained in areas not accessible to the public; offices are locked during non-business hours. Magnetic tape and magnetic disk; computer and computer storage rooms are restricted to authorized personnel; on-line query safeguards include a lock/unlock password system, a terminal oriented transaction matrix and an audit trail; for computerized records electronically transmitted between headquarters and field office locations, systems securities are established in accordance with National Bureau of Standards guidelines. In addition to the online query safeguards, they include encryption of all data transmitted and exclusive use of leased telephone lines.

Retention and disposal:

Paper—Transferred to the Chicago Federal Records Center 1 year after the end of the benefit year during which the case was closed and then destroyed by shredding 6 years and 3 months after the end of the benefit year. In benefit recovery cases, the file is transferred to the Federal Records Center if there has been no recent activity; the file is not destroyed until 6 years and 3 months after recovery has been completed or waived. Magnetic tape—Destroyed by shredding and compacting 10 years after the end of he benefit year. Microform—Destroyed by shredding and compacting 10 years after the end of the benefit year. Optical media—Destroyed by compacting 10 years after the end of the benefit year.

* * * * *

Record source categories.

Applicant, claimant or his or her representative, physicians, employers, labor organizations, federal, state, and local government agencies, all Railroad Retirement Board files, insurance companies, attorneys, Congressmen, liable parties (in personal injury cases), funeral homes and survivors (for payment of death benefits).

* * * * *

RRB-22

System name:

Railroad Retirement Survivor and Pensioner Benefit System.

* * * * *

19. The following sections and paragraph in RRB-22 are revised, and a purpose section is added, to read as follows:

Purpose(s):

Records in this system of records are maintained to administer the benefit provisions of the Railroad Retirement Act, sections of the Internal Revenue Code related to the taxation of railroad retirement benefits, and Title XVIII of the Social Security Act as it pertains to Medicare coverage for railroad retirement beneficiaries.

* * * * *

Routine uses of records maintained in the system, including categories of users and the purposes of such uses:

e. Beneficiary identifying information, address, check rates, number and date may be released to the Department of the Treasury to control for reclamation and return of outstanding benefit payments, to issue benefit payments, to act on reports of non-receipt, to insure delivery of payments to the correct address of the beneficiary or representative payee or to the proper financial organization, and to investigate alleged forgery, theft or unlawful negotiation of railroad retirement benefit checks or improper diversion of payments directed to a financial organization.

* * * * *

k. Beneficiary identifying information, entitlement, benefit rates and months paid may be released to the Social Security Administration (Bureau of Supplemental Security Income), the Health Care Financing Administration, and to federal, state and local welfare or public aid agencies to assist them in processing applications for benefits under their respective programs.

* * * * *

gg. Certain identifying information about annuitants, such as name, social security number, RRB claim number, and date of birth, as well as address, year and month last worked for a railroad, last railroad occupation, application filing date, annuity beginning date, identity of last railroad employer, total months of railroad service, sex, disability onset date, disability freeze onset date, and cause and effective date of annuity termination may be furnished to insurance companies for administering group life and medical insurance plans negotiated between certain participating railroad employers and railway labor organizations.

* * * * *

Retention and disposal:

Paper—Individual claim folders with records of all actions pertaining to the payment of claims are transferred to the Federal Records Center, Chicago, Illinois, 5 years after the date of last payment or denial activity if all benefits have been paid, no future eligibility is apparent and no erroneous payments are outstanding. The claim folder is destroyed 25 years after the date it is received in the center. Account receivable listings and checkwriting operations daily activity listings are transferred to the Federal Records Center 1 year after the date of issue and are destroyed 6 years and 3 months after receipt at the center. Other paper listings are destroyed 1 year after the date of issue. Change of address source documents are destroyed after 1 year. Microforms—Originals are kept for 3 years, transferred to the Federal Records Center, and destroyed when 8 years old. One duplicate copy is kept 2 years and destroyed by shredding. All other duplicate copies are kept 1 year and destroyed by shredding. Magnetic tape—Magnetic tape records are used to daily update the disk file, are retained for 90 days and then written over. For disaster recovery purposes certain tapes are stored for 12-18 months. Magnetic disk—Continually updated and permanently retained.

* * * * *

RRB-26

System name:

Payment, Rate and Entitlement History File

* * * * *

20. A purpose section is added to RRB-26 to read as follows:

Purpose(s):

The purpose of this system is to record in one file all data concerning payment, rate, and entitlement history for recipients of Railroad Retirement benefits.

* * * * *

RRB-27

System name:

Railroad Retirement Board—Social Security Administration Financial Interchange System.

* * * * *

21. A purpose section is added to RRB-27 to read as follows:

Purpose(s):

The purpose of this system is to calculate benefit amounts required to determine the financial interchange transfer amounts each year.

* * * * *

RRB-29

System name:

Railroad Employees' Cumulative Gross Earnings Master File.

* * * * *

22. A purpose section is added to RRB-29 to read as follows:

Purpose(s):

The purpose of this system is to maintain gross earnings reports for Financial Interchange sample employees for use in the calculation of benefit amounts used in the financial interchange determinations.

* * * * *

RRB-33

System name:

Federal Employee Incentive Awards System.

* * * * *

23. The following section in RRB-33 is revised, and a purpose section is added, to read as follows:

Purpose(s):

Past suggestion and award nominations and awards presented are maintained to provide historical and statistical records.

* * * * *

Retention and disposal:

Denied suggestions are purged and destroyed by shredding 5 years after the denial date. Adopted suggestions are retained permanently as are all special achievement awards, quality increase awards, public service awards, RRB Award for Excellence, and government-sponsored awards.

* * * * *

RRB-34

System name:

Employee Personnel Management Files.

* * * * *

24. A purpose section is added to RRB-34 to read as follows:

Purpose(s):

The system is maintained to provide information to managers and supervisors to assist in their work.

* * * * *

RRB-36

System name:

Complaint, Grievance, Disciplinary, and Adverse Action Records.

* * * * *

25. The following section and a purpose section is added to RRB-36 to read as follows:

Purpose(s):

The purpose of this system of records is to maintain information related to grievances, disciplinary actions, and adverse actions in order to furnish information to arbitrators, EEO investigators, the Merit Systems Protection Board, the Federal Labor Relations Authority, and the Courts, as necessary. The information is also used for statistical purposes, as needed.

* * * * *

Authority for maintenance of the systems:

Title 5 U.S.C., sections 7503(c), 7513(e), and 7543(e).

* * * * *

RRB-37

System name:

Medical Records on Railroad Retirement Board Employees.

* * * * *

26. A purpose section is added to RRB-37 to read as follows:

Purpose(s):

To maintain private records for employees regarding their medical history and other pertinent information such as results of screenings for medical conditions, immunization records, and workplace incidents or injuries.

* * * * *

RRB-42

* * * * *

27. The following sections and paragraph in RRB-42 are revised, and a purpose section is added, to read as follows:

System name:

Benefit Overpayment Accounts

* * * * *

Categories of individuals covered by the system:

Individuals who were overpaid in the benefits they received from the Railroad Retirement Board. Benefits overpaid are further delineated in the following three categories.

—Individuals receiving the following types of annuities, payable under the Railroad Retirement Act: railroad retirement, disability, supplemental, and survivor.

—Individuals receiving unemployment or sickness insurance benefits payable under the Railroad Unemployment Insurance Act

—Individuals receiving benefits under section 701 of the Regional Rail Reorganization Act of 1973.

Categories of records in the system:

Name, address, Social Security number, Railroad Retirement claim number, type of benefit previously paid, amount of overpayment, debt identification number, cause of overpayment, source of overpayment, original debt amount, current balance of debt, installment repayment history, recurring accounts receivable administrative offset history, waiver, reconsideration and debt appeal status, general billing, dunning, referral, collection, and payment case history, amount of interest and penalties assessed and collected, name and address of debt collection agency or Federal agency to which account is referred for collection, date of such referral, amount collected, and name and address of consumer reporting agencies to which debt information is disclosed and date of such referral.

Authority for maintenance of the system:

Section 7(b)(6) of the Railroad Retirement Act of 1974 (45 U.S.C. 231f(b)(6); sec. 12(1) of the Railroad Unemployment Insurance Act (45 U.S.C. 362(1); Pub. L. 97-92, Joint Resolution; Pub. L. 97-365 (Debt Collection Act of 1982); Federal Claims Collection Act (31 U.S.C. 3701 et. seq.); Pub. L. 104-134 (Debt Collection Improvement Act of 1996).

Purpose(s):

The records in this system are created, monitored and maintained to enable the Railroad Retirement Board to fulfill regulatory and statutory fiduciary responsibilities to its trust funds, the individuals to whom it pays benefits and the Federal Government as directed under the Railroad Retirement Act, Railroad Unemployment Insurance Act, Debt Collection Act of 1982, Federal Claims Collection Act, and Debt Collection Improvement Act of 1996. These responsibilities include: accurate and timely determination of debt; sending timely, accurate notice of the debt with correct repayment and rights options; taking correct and timely action when rights/appeals have been requested; assessing appropriate charges; using all appropriate collection tools, releasing required, accurate reminder notices; and correctly and timely entering all recovery, write-off and waiver offsets to debts.

Routine uses of records maintained in the system, including categories of users and the purposes of such uses:

a. Benefit overpayment amounts, history of collectible, history of collection efforts and identification information (name, address—including IRS address information—Social Security number, Railroad Retirement claim number, type of benefit) may be disclosed to private collection agencies for the purpose of recovering benefit overpayments.

* * * * *

c. For information related to overpayments of benefits paid under section 701 of the Regional Rail Reorganization of 1973, in the event that this system of records, maintained by the Railroad Retirement Board to carry out its functions, indicates a violation or potential violation of law, whether civil, criminal or regulatory in nature, and whether arising by general statute or particular program statute, and whether arising by general statute or particular program statute, or by regulation, rule or order issued thereto, the relevant records in the system of records may be referred, as a routine use, to the appropriate agency, whether Federal, State, local or foreign, charged with the responsibility of investigating or prosecuting such violation or charged with enforcing or implementing the statute, rule, regulation or order issued pursuant thereto; for information related to uncollectible overpayments paid under any other Act administered by the Railroad Retirement Board, in the event this system of records maintained by the Railroad Retirement Board to carry out its functions indicates a violation or potential violation of law, whether civil, criminal, or regulatory in nature, whether arising by general statute or particular program statute, or by regulation, rule or order issued pursuant thereto, the relevant records may be referred, as a routine use, to the appropriate agency, whether Federal, State, local or foreign, charged with the responsibility of investigating or prosecuting such violation or charged with enforcing or implementing the statute, rule, regulation or order issued pursuant thereto, provided that disclosure would be to an agency engaged in functions related to the Railroad Retirement Act, or the Railroad Unemployment Insurance Act or provided that disclosure would be clearly in the furtherance of the interest of the subject individual.

* * * * *

Retention and disposal:

Records of the receivable accounts are maintained in an on-line electronic database and remain in the database even after waiver, reversal, recovery or write-off until 5 years after the debt is closed. After that time all records are removed from the on-line electronic database, and a microfilm copy is kept only of case history general activity. An uncollectible debt written off the active receivable database is stored on magnetic tape for possible future action. Most paper documents that are not immediately shredded are filed in claim folders that are covered by Privacy Act Systems of Records RRB-21, Railroad Unemployment and Sickness Insurance Benefit System, or RRB-22, Railroad Retirement, Survivor, and Pensioner Benefit System. These paper documents are mostly correspondence. Paper documents that relate to multiple accounts are kept for 6 years in folders established for the purpose.

* * * * *

RRB-43

28. The following sections and paragraph in RRB-43 are revised, and a purpose section is added, to read as follows:

System name:

Office of Inspector General Investigation Files.

System location:

Office of Inspector General, U.S. Railroad Retirement Board, 844 N Rush Street, Chicago, Illinois 60611

* * * * *

Categories of records in the system:

Letters, memoranda, and other documents alleging a violation of law, regulation or rule, or alleging misconduct, or conflict of interest; reports of investigations to resolve allegations with related exhibits, statements, affidavits or records obtained during the investigation; recommendations on actions to be taken; transcripts of, and documentation concerning request and approval for, consensual monitoring of communications; photographs, video and audio recordings made as part of the investigation; reports from law enforcement bodies; prior criminal or noncriminal records as they relate to the investigation; reports of actions taken by management personnel regarding misconduct; reports of legal actions resulting from violations referred to the Department of Justice or other law enforcement agencies for prosecution.

Authority for maintenance of the system:

Inspector General Act of 1978, Pub. L. 95-452, 5 U.S.C. App., as amended

Purpose(s)

The Office of Inspector General maintains this system of records to carry out its statutory responsibilities under the Inspector General Act. These responsibilities include a mandate to investigate allegations of fraud, waste, and abuse related to the programs and operations of the RRB and to refer such matters to the Department of Justice for prosecution.

* * * * *

Storage:

Paper and electronic media.

Retrievability:

Name, SSN, RRB Claim Number, and assigned number, all of which are cross-referenced to the other information.

Safeguards:

General access is restricted to the Inspector General and members of his staff; disclosure within the agency is on a limited need-to-know basis; files and paper documents are maintained in locked file cabinets located in areas not accessible to the public. Office is locked during non-business hours. Access to computers which store the electronic index is restricted to authorized personnel, and on-line query safeguards include a password unlock system.

Retention and disposal:

Paper files are retained for 10 years before they are destroyed by shredding. They are destroyed by shredding in the fiscal year following the expiration of the 10-year retention period. The electronic index records are retained until no longer required for any operational or administrative purpose.

* * * * *

record Source Categories:

The subject; the complainant; third parties including but no limited to employers and financial institutions; local, state, and federal agencies; and other RRB record systems.

* * * * *

RRB-44

System name:

Employee Test Score file.

* * * * *

29. The following sections in RRB-44 are revised, and a purpose section added, to read as follows:

Purpose(s):

Test scores are stored for use in the Agency's merit promotion program. Scores are forwarded by the Bureau of Personnel to merit promotion panels for use in ranking candidates for selection for promotion.

* * * * *

Safeguards:

Paper and diskettes are maintained in a locked box. A password is required to access the scores on the personal computer.

Retention and disposal:

Paper records are destroyed by shredding after 3 years. The test score file on the personal computer is updated when each test is given. A test score that is over 3 years old will be replaced when the test is retaken, or removed if the test has not been retaken. A back-up disk is made each time a record is changed or added; it is retained until the next back up is made.

* * * * *

RRB-45

System name:

Employee Tuition Reimbursement File.

* * * * *

30. A purpose section is added to RRB-45 to read as follows:

Purpose(s):

The purpose of this system of records is to serve as a respiratory for the records (i.e. passing grade, receipts for books, fees and tuition and application with proper agency approval) for each course for each individual.

* * * * *

RRB-46

System name:

Personnel Security Files.

* * * * *

31. The following section in RRB-46 is revised, and a purpose section is added, to read as follows:

Purpose(s):

The purpose of this system of records is to maintain files documenting the processing of investigations on RRB employees and applicants for employment used in making security/suitability determinations.

* * * * *

Safeguards:

Records are kept in a locked cabinet; only authorized persons are permitted access.

Retention and Disposal:

Records are destroyed upon notification of death or not later than 5 years after separation or transfer of employee

* * * * *

RRB-48

System name:

Employee Identification Card Files (Building Passes).

* * * * *

32. A purpose section is added to RRB-48 to read as follows:

Purpose(s):

The purpose of this system of records is to validate employees who have been given access to the building.

* * * * *

RRB-49

System name:

Telephone Call Detail Records.

* * * * *

33. A purpose section is added to RRB-49 to read as follows:

Purpose(s):

The purpose of this system of records are to verify the correctness of telephone service billing and to detect and deter possible improper use of agency telephones by agency employees and contractors.

[FR Doc. 00-27537 Filed 10-25-00; 8:45 am]

BILLING CODE 7906-01-M